DEPARTMENT OF TRANSPORTATION

Federal Aviation Administration

14 CFR Part 39

[Docket No. FAA-2024-1001; Project Identifier MCAI-2023-01129-T; Amendment 39-22787; AD 2024-14-06]

RIN 2120-AA64

Airworthiness Directives; Airbus SAS Airplanes

AGENCY: Federal Aviation Administration (FAA), DOT.

ACTION: Final rule.

SUMMARY: The FAA is adopting a new airworthiness directive (AD) for all Airbus SAS Model A350-941 and -1041 airplanes. This AD was prompted by reports that certain engine bleed air system (EBAS) T-Ducts may not conform to the type design due to a quality escape not detected during the manufacturing process on Rolls-Royce Trent XWB-75, Trent XWB-84, and Trent XWB-97 engines. This AD requires replacement of affected EBAS T-Ducts and limits the installation of affected parts under certain conditions, as specified in a European Union Aviation Safety Agency (EASA) AD, which is incorporated by reference (IBR). The FAA is issuing this AD to address the unsafe condition on these products.

DATES: This AD is effective September 25, 2024.

The Director of the Federal Register approved the incorporation by reference of a certain publication listed in this AD as of September 25, 2024.

ADDRESSES:

AD Docket: You may examine the AD docket at regulations.gov under Docket No. FAA-2024-1001; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu. It is also available at regulations.gov under Docket No. FAA-2024-1001.

• You may view this material at the FAA, Airworthiness Products Section, Operational Safety Branch, 2200 South 216th St., Des Moines, WA. For information on the availability of this material at the FAA, call 206-231-3195. It is also available at regulations.gov under Docket No. FAA-2024-1001.

FOR FURTHER INFORMATION CONTACT: Dat Le, Aviation Safety Engineer, FAA, 1600 Stewart Avenue, Suite 410, Westbury, NY 11590; telephone: 516-228-7300; email: 9-avs-nyaco-cos@faa.gov.

SUPPLEMENTARY INFORMATION:

Background

The FAA issued a notice of proposed rulemaking (NPRM) to amend 14 CFR part 39 by adding an AD that would apply to all Airbus SAS Model A350-941 and -1041 airplanes. The NPRM published in the Federal Register on April 10, 2024 (89 FR 25191). The NPRM was prompted by EASA AD 2023-0189, dated October 31, 2023, issued by EASA, which is the Technical Agent for the Member States of the European Union (referred to after this as the MCAI). The MCAI states a sub-supplier to Rolls-Royce for bleed ducts on Trent XWB-75, Trent XWB-84, and Trent XWB-97 engines reported that certain EBAS T-Ducts may not conform to the type design due to a quality escape not detected during the manufacturing process. Affected EBAS T-Ducts have Part Number RR03-11011-001 and serial number listed in the Appendix 1 of Rolls-Royce Alert Non-Modification Service Bulletin (NMSB) Trent XWB 36-AK870, dated September 29, 2023.

In the NPRM, the FAA proposed to require replacement of affected EBAS T-Ducts and limit the installation of affected parts under certain conditions, as specified in a European Union Aviation Safety Agency (EASA) AD. The FAA is issuing this AD to address cracking of certain EBAS T-Ducts on Rolls-Royce (RR) Trent XWB-75, Trent XWB-84 and Trent XWB-97 engines. The unsafe condition, if not addressed, could result in cracking of the affected part with consequent air leakage, which could result in high energy debris release (uncontained engine rotor failure), an uncontrolled engine fire, and subsequent loss of control of the airplane.

You may examine the MCAI in the AD docket at regulations.gov under Docket No. FAA-2024-1001.

Discussion of Final Airworthiness Directive

Comments

The FAA received a comment from the Air Line Pilots Association, International (ALPA), who supported the NPRM without change.

The FAA received additional comments from Delta Air Lines. The following presents the comments received on the NPRM and the FAA's response to each comment.

Request for Removal of Step in Exceptions Paragraph

Delta considered the exception in paragraph (h)(3) of the proposed AD unnecessary, and stated that this exception only restricts the use of later-approved revisions of Rolls-Royce Alert Non-Modification Service Bulletin TRENT XWB-36-AK870 (the NMSB). Delta stated that putting the date of the NMSB in the proposed AD limits the revision that can be used to comply with the AD, and use of later revisions will require approval of alternative methods of compliance (AMOCs). Delta noted that EASA AD 2023-0189 already defines the NMSB in the Definitions and Ref. Publications sections, and allows the use of later-approved revisions of the NMSB to comply with the EASA AD.

The FAA disagrees with removing paragraph (h)(3) of this AD. Appendix 1 of the NMSB defines affected EBAS T-Ducts by part and serial number. Because Appendix 1 may change in future revisions of the NMSB, this AD defines the acceptable NMSB version to control for the identity of the affected parts. Paragraph (h)(3) of this AD does not otherwise affect the use of later-approved versions for the actions required by paragraph (1) or (2) of the EASA AD2023-0189. The FAA agrees that AMOC approvals may be necessary to use a future NMSB version if the definition of affected parts changes. The FAA has not changed this AD in this regard.

Request for Reporting Clarification

Delta requested adding a new subparagraph to the “Exceptions” section of the NPRM to clarify reporting requirements. Delta stated that paragraphs 3.A.(4) and 3.B.(4) of Trent Service Bulletin XWB 36-AK870 require the operator to complete an Appendix 3 form and submit it to Rolls-Royce. Delta claims the “reporting requirement” in an AD typically requests findings from an inspection to enable the manufacturer to learn more about the cause of the unsafe condition and determine appropriate corrective actions. Furthermore, the Trent Service Bulletin XWB 36-AK870, Appendix 3, merely requests that operators inform Rolls-Royce that the service bulletin is completed for their airplanes and does not specify submitting specific information such as test or inspection results.

The FAA agrees and has added paragraph (i) of this AD in order to clarify that no reporting is required.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

EASA AD 2023-0189 specifies procedures for replacement of affected EBAS T-Ducts. EASA AD 2023-0189 also limits the installation of affected parts. This material is reasonably available because the interested parties have access to it through their normal course of business or by the means identified in the ADDRESSES section.

Costs of Compliance

The FAA estimates that this AD affects 32 airplanes of U.S. registry. The FAA estimates the following costs to comply with this AD:

Estimated Costs for Required Actions
Labor cost | Parts cost | Cost per product | Cost on U.S. operators
Up to 2 work-hours × $85 per hour = $170 | $128,555 | Up to $128,725 | Up to $4,119,200.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-14-06 Airbus SAS: Amendment 39-22787; Docket No. FAA-2024-1001; Project Identifier MCAI-2023-01129-T.

(a) Effective Date

This airworthiness directive (AD) is effective September 25, 2024.

(b) Affected ADs

None.

(c) Applicability

This AD applies to all Airbus SAS Model A350-941 and -1041 airplanes, certificated in any category.

(d) Subject

Air Transport Association (ATA) of America Code 36, Pneumatic.

(e) Unsafe Condition

This AD was prompted by reports that certain engine bleed air system (EBAS) T-Ducts on Rolls-Royce Trent XWB-75, Trent XWB-84, and Trent XWB-97 engines may not conform to the type design due to a quality escape not detected during the manufacturing process. The FAA is issuing this AD to address cracking of certain EBAS T-Ducts on Rolls-Royce (RR) Trent XWB-75, Trent XWB-84 and Trent XWB-97 engines. The unsafe condition, if not addressed, could result in cracking of the affected part with consequent air leakage, which could result in high energy debris release (uncontained engine rotor failure), an uncontrolled engine fire, and subsequent loss of control of the airplane.

(f) Compliance

Comply with this AD within the compliance times specified, unless already done.

(g) Requirements

Except as specified in paragraphs (h) and (i) of this AD: Comply with all required actions and compliance times specified in, and in accordance with, European Union Aviation Safety Agency (EASA) AD 2023-0189, dated October 31, 2023 (EASA AD 2023-0189).

(h) Exceptions to EASA AD 2023-0189

(1) Where EASA AD 2023-0189 refers to its effective date, this AD requires using the effective date of this AD.

(2) This AD does not adopt the “Remarks” section of EASA AD 2023-0189.

(3) Where the definition of affected part in EASA AD 2023-0189 specifies “as listed in the APPENDIX 1 of the NMSB,” replace that text with “as listed in the APPENDIX 1 of Rolls-Royce ALERT Non-Modification Service Bulletin TRENT XWB 36-AK870, dated September 29, 2023.”

(i) No Reporting Requirement

Although certain material referenced in EASA AD 2023-0189 specifies to submit certain information to the manufacturer, this AD does not include that requirement.

(j) Special Flight Permit

Special flight permits may be issued in accordance with 14 CFR 21.197 and 21.199 to operate the airplane to a location where an EBAS T-Duct can be replaced, provided only one EBAS T-Ducts requires replacement.

(k) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (l) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (k)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Additional Information

For more information about this AD, contact Dat Le, Aviation Safety Engineer, FAA, 1600 Stewart Avenue, Suite 410, Westbury, NY 11590; telephone: 516-228-7300; email: 9-avs-nyaco-cos@faa.gov.

(m) Material Incorporated by Reference

(1) The Director of the Federal Register approved the incorporation by reference (IBR) of the material listed in this paragraph under 5 U.S.C. 552(a) and 1 CFR part 51.

(2) You must use this material as applicable to do the actions required by this AD, unless this AD specifies otherwise.

(i) European Union Aviation Safety Agency (EASA) AD 2023-0189, dated October 31, 2023.

(ii) [Reserved]

(3) For EASA AD 2023-0189, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on July 12, 2024.
Suzanne Masterson,
Deputy Director, Integrated Certificate Management Division, Aircraft Certification Service.

[FR Doc. 2024-18628 Filed 8-20-24; 8:45 am]

BILLING CODE 4910-13-P